NATIONAL AERONAUTICS AND SPACE ADMINISTRATION

[Notice (01-038)]

Notice of Prospective Patent License

AGENCY: National Aeronautics and Space Administration.

ACTION: Notice of prospective patent license.

SUMMARY: NASA hereby gives notice that Rotary Transformers, Inc., of Blacksburg, Virginia has applied for an exclusive license to practice the invention disclosed in U.S. Patent No. 5,691,687 entitled “Contactless Magnetic Slip Ring,” which is assigned to the United States of America as represented by the Administrator of the National Aeronautics and Space Administration. Written objections to the prospective grant of a license should be sent to Ames Research Center.

DATES: Responses to this notice must be received by May 21, 2001.

FOR FURTHER INFORMATION CONTACT: Robert Padilla, Patent Counsel, NASA Ames Research Center, Mail Stop 202A-3, Moffett Field, CA 94035-1000, telephone (650) 604-5104.

Dated: March 14, 2000.
Robert M. Stephens,
Deputy General Counsel.

[FR Doc. 01-6809 Filed 3-19-01; 8:45 am]

BILLING CODE 7510-01-U